SMALL BUSINESS ADMINISTRATION

[Declaration of Disaster #3476]

State of Texas

Jefferson County and the contiguous counties of Chambers, Hardin, Liberty, and Orange in the State of Texas, and Cameron Parish in the State of Louisiana constitute a disaster area due to damages caused by flooding that occurred on December 3, 2002. Applications for loans for physical damage as a result of this disaster may be filed until the close of business on February 24, 2003, and for economic injury until the close of business on September 24, 2003, at the address listed below or other locally announced locations: U.S. Small Business Administration, Disaster Area 3 Office, 4400 Amon Carter Boulevard, Suite 102, Forth Worth, TX 76155.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The numbers assigned to this disaster for physical damage are 347606 for Texas and 347706 for Louisiana. For economic injury, the numbers are 9T7000 for Texas and 9T7100 for Louisiana.

(Catalog of Federal Domestic Assistance Program Nos. 59002 and 59008)
Dated: December 24, 2002.
Hector V. Barreto,
Administrator.

[FR Doc. 03-306 Filed 1-7-03; 8:45 am]

BILLING CODE 8025-01-P